DEPARTMENT OF ENERGY

Federal Energy Regulatory Commission

Combined Notice of Filings #1

September 29, 2009.

Take notice that the Commission received the following electric corporate filings:

Docket Numbers: EC09-110-000

Applicants: Monmouth Energy, Inc., Montauk Energy Capital, LLC, Johnnic Holdings USA LLC, Johnnic Holdings Limited, Tsogo Investment Holding Company, Hosken Consolidated Investments Limited

Description: Application for authorization under Section 203 of the federal power act request for expedited consideration and confidential treatment re Monmouth Energy, Inc. et al.

Filed Date: 09/28/2009.

Accession Number: 20090929-0123.

Comment Date: 5 p.m. Eastern Time on Monday, October 19, 2009.

Take notice that the Commission received the following exempt wholesale generator filings:

Docket Numbers: EG09-95-000.

Applicants: Raleigh Wind Power Partnership.

Description: Notice of Self-Certification of Exempt Wholesale Status of Raleigh Wind Power Partnership.

Filed Date: 09/29/2009.

Accession Number: 20090929-5049.

Comment Date: 5 p.m. Eastern Time on Tuesday, October 20, 2009.

Take notice that the Commission received the following electric rate filings:

Docket Numbers: ER97-3359-014.

Applicants: Florida Power & Light Company.

Description: Florida Power & Light Company submits notice of change in status.

Filed Date: 09/25/2009.

Accession Number: 20090928-0087.

Comment Date: 5 p.m. Eastern Time on Friday, October 16, 2009.

Docket Numbers: ER02-537-025; ER07-758-017.

Applicants: Inland Empire Energy Center, L.L.C., Shady Hills Power Company, L.L.C.

Description: Notice of Non-Material Change in Status for Shady Hills Power Company, L.L.C. et al.

Filed Date: 09/29/2009.

Accession Number: 20090929-5045.

Comment Date: 5 p.m. Eastern Time on Tuesday, October 20, 2009.

Docket Numbers: ER03-774-013.

Applicants: Eagle Energy Partners I, LP.

Description: Notice of Non-Material Change in Status of Eagle Energy Partners I, LP.

Filed Date: 09/25/2009.

Accession Number: 20090925-5104.

Comment Date: 5 p.m. Eastern Time on Friday, October 16, 2009.

Docket Numbers: ER08-1113-006.

Applicants: California Independent System Operator Corporation.

Description: The California Independent System Operator Corp submits a compliance filing re FERC's 7/30/09 Order on Rehearing and Clarification.

Filed Date: 09/28/2009.

Accession Number: 20090928-0100.

Comment Date: 5 p.m. Eastern Time on Monday, October 19, 2009.

Docket Numbers: ER08-1272-002.

Applicants: New York Independent System Operator, Inc.

Description: New York Independent System Operator, Inc. submits Fourth Revised Sheet 751 et al. to FERC Electric Tariff, Original Volume 1.

Filed Date: 09/28/2009.

Accession Number: 20090929-0086.

Comment Date: 5 p.m. Eastern Time on Monday, October 19, 2009.

Docket Numbers: ER08-83-002.

Applicants: Idaho Power Company.

Description: Idaho Power Co submits a compliance filing re the 7/30/09 Order.

Filed Date: 09/28/2009.

Accession Number: 20090928-0099.

Comment Date: 5 p.m. Eastern Time on Monday, October 19, 2009.

Docket Numbers: ER09-1590-001.

Applicants: Xcel Energy Services Inc.

Description: Amendment to Application of Xcel Energy Services Inc.

Filed Date: 09/28/2009.

Accession Number: 20090925-5103.

Comment Date: 5 p.m. Eastern Time on Monday, October 19, 2009.

Docket Numbers: ER09-1699-001.

Applicants: Eurus Combine Hills II LLC.

Description: Eurus Combine Hills II LLC submits an amended application for market based rate authority and associated waivers and Blanket Approvals.

Filed Date: 09/28/2009.

Accession Number: 20090928-0101.

Comment Date: 5 p.m. Eastern Time on Monday, October 19, 2009.

Docket Numbers: ER09-1749-000.

Applicants: PacifiCorp.

Description: PacifiCorp submits Large Generator Interconnection Agreement Facilities Maintenance Agreement.

Filed Date: 09/28/2009.

Accession Number: 20090928-0102.

Comment Date: 5 p.m. Eastern Time on Monday, October 19, 2009.

Docket Numbers: ER09-1750-000.

Applicants: American Electric Power Service Corporation.

Description: American Electric Power submits Nineteenth Revised Interconnection and Local Delivery Service Agreement between AEP and Buckeye Power, Inc.

Filed Date: 09/28/2009.

Accession Number: 20090928-0088.

Comment Date: 5 p.m. Eastern Time on Monday, October 19, 2009.

Docket Numbers: ER09-1751-000.

Applicants: Westar Energy, Inc.

Description: Westar Energy, Inc. et al. submit Third Revised Sheet No. 9 et al. to First Revised Rate Schedule FERC No 169.

Filed Date: 09/28/2009.

Accession Number: 20090928-0089.

Comment Date: 5 p.m. Eastern Time on Monday, October 19, 2009.

Docket Numbers: ER09-1752-000.

Applicants: Westar Energy, Inc.

Description: Westar Energy, Inc. et al. submits Third Revised Sheet 11 & 1 to the Wholesale Electric Service Agreement, designated as First Revised Rate Schedule FERC 170 between Kansas Gas and Electric Co and the City of Elsmore, KS.

Filed Date: 09/28/2009.

Accession Number: 20090928-0090.

Comment Date: 5 p.m. Eastern Time on Monday, October 19, 2009.

Docket Numbers: ER09-1753-000.

Applicants: Westar Energy, Inc.

Description: Westar Energy, Inc. submits Third Revised No. 11 et al. to the Wholesale Electric Service Agreement with the City of Blue Mound, Kansas.

Filed Date: 09/28/2009.

Accession Number: 20090928-0091.

Comment Date: 5 p.m. Eastern Time on Monday, October 19, 2009.

Docket Numbers: ER09-1754-000.

Applicants: Westar Energy, Inc.

Description: Westar Energy, Inc. et al. submits Third Revised Sheet No. 10 et al. to the Wholesale Electric Service Agreement.

Filed Date: 09/28/2009.

Accession Number: 20090928-0092.

Comment Date: 5 p.m. Eastern Time on Monday, October 19, 2009.

Docket Numbers: ER09-1755-000.

Applicants: Westar Energy, Inc.

Description: Westar Energy, Inc. submits Third Revised No. 8 et al. to the Wholesale Electric Service Agreement with the City of Mulberrry, Kansas.

Filed Date: 09/28/2009.

Accession Number: 20090928-0094.

Comment Date: 5 p.m. Eastern Time on Monday, October 19, 2009.

Docket Numbers: ER09-1756-000.

Applicants: Westar Energy, Inc.

Description: Westar Energy, Inc. submits Third Revised No. 12 et al. to the Wholesale Electric Service Agreement with the City of Bronson, Kansas.

Filed Date: 09/28/2009.

Accession Number: 20090928-0093.

Comment Date: 5 p.m. Eastern Time on Monday, October 19, 2009.

Docket Numbers: ER09-1757-000.

Applicants: Westar Energy, Inc.

Description: Westar Energy, Inc. submits Third Revised No. 11 et al. to the Wholesale Electric Service Agreement with the City of Savonburg, Kansas.

Filed Date: 09/28/2009.

Accession Number: 20090928-0095.

Comment Date: 5 p.m. Eastern Time on Monday, October 19, 2009.

Docket Numbers: ER09-1758-000.

Applicants: Westar Energy, Inc.

Description: Westar Energy, Inc. submits Third Revised No. 10 et al. to the Wholesale Electric Service Agreement with the City of Mindenmines, Kansas.

Filed Date: 09/28/2009.

Accession Number: 20090928-0096.

Comment Date: 5 p.m. Eastern Time on Monday, October 19, 2009.

Docket Numbers: ER09-1759-000.

Applicants: Westar Energy, Inc.

Description: Westar Energy, Inc. submits Eighth Revised Sheet No. 4 et al. to the Wholesale Electric Service Agreement.

Filed Date: 09/28/2009.

Accession Number: 20090928-0097.

Comment Date: 5 p.m. Eastern Time on Monday, October 19, 2009.

Docket Numbers: ER09-1761-000.

Applicants: Westar Energy, Inc.

Description: Westar Energy, Inc. submits Third Revised No. 4 et al. to the Wholesale Electric Service Agreement with the City of Vermillion, Kansas.

Filed Date: 09/28/2009.

Accession Number: 20090928-0098.

Comment Date: 5 p.m. Eastern Time on Monday, October 19, 2009.

Docket Numbers: ER09-1762-000.

Applicants: Westar Energy, Inc.

Description: Westar Energy, Inc. submits its Full Requirements Electric Service Rate Schedule and Electric Service Agreement.

Filed Date: 09/28/2009.

Accession Number: 20090928-0104.

Comment Date: 5 p.m. Eastern Time on Monday, October 19, 2009.

Docket Numbers: ER09-1763-000.

Applicants: PacifiCorp.

Description: PacifiCorp submits Notice of Cancellation for Service Agreement 425 with Bonneville Power Administration.

Filed Date: 09/28/2009.

Accession Number: 20090929-0088.

Comment Date: 5 p.m. Eastern Time on Monday, October 19, 2009.

Take notice that the Commission received the following foreign utility company status filings:

Docket Numbers: FC09-1-000.

Applicants: SunEdison Canada, LLC.

Description: Notice of Self Certification of Foreign Utility Company Status of SunEdison Canada, LLC as FUCO.

Filed Date: 09/28/2009.

Accession Number: 20090928-5098.

Comment Date: 5 p.m. Eastern Time on Monday, October 19, 2009.

Take notice that the Commission received the following open access transmission tariff filings:

Docket Numbers: OA08-32-005.

Applicants: PJM Interconnection L.L.C.

Description: PJM Interconnection, LLC submits Second Substitute Seventh Revised Sheet 183 et al. to Third Revised Rate Schedule FERC 24.

Filed Date: 09/28/2009.

Accession Number: 20090929-0087.

Comment Date: 5 p.m. Eastern Time on Monday, October 19, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-24114 Filed 10-6-09; 8:45 am]

BILLING CODE 6717-01-P